DEPARTMENT OF COMMERCE

International Trade Administration

[A-549-829]

Final Determination of Sales at Not Less Than Fair Value: Prestressed Concrete Steel Rail Tie Wire From Thailand

AGENCY: Enforcement and Compliance, International Trade Administration, Department of Commerce.

SUMMARY: The Department of Commerce (the Department) determines that imports of prestressed concrete steel rail tie wire (PC tie wire) from Thailand are not being, nor are likely to be, sold in the United States at less than fair value, as provided in section 735 of the Tariff Act of 1930, as amended (the Act). The final weighted-average dumping margin is listed below in the section entitled “Final Determination Margins.”

DATES: Effective Date: May 5, 2014.

FOR FURTHER INFORMATION CONTACT: Kate Johnson or Terre Keaton Stefanova, AD/CVD Operations, Office II, Enforcement and Compliance, International Trade Administration, U.S. Department of Commerce, 14th Street and Constitution Avenue NW., Washington, DC 20230; telephone: (202) 482-4929 or (202) 482-1280, respectively.

SUPPLEMENTARY INFORMATION:

Background

On December 12, 2013, the Department published in the Federal Register the preliminary determination of sales at not less than fair value in the antidumping duty investigation of PC tie wire from Thailand.¹ The following events occurred since the preliminary determination was issued.

¹ See Prestressed Concrete Steel Rail Tie Wire from Thailand: Preliminary Determination of Sales at Not Less Than Fair Value and Postponement of Final Determination, 78 FR 75547 (December 12, 2013) (Preliminary Determination).

We issued supplemental sales and cost questionnaires to The Siam Industrial Wire Co., Ltd. (SIW) and received responses to these supplemental questionnaires in December 2013. Also, in December 2013, SIW submitted revised sales and cost databases pursuant to the Department's requests.

On December 15, 2013, we received an allegation from the petitioners that the Department made a ministerial error in its preliminary determination dumping margin calculation with respect to the adjustment of SIW's raw material costs. On December 17, 2013, SIW submitted a letter objecting to the petitioners' allegation. On December 18, 2013, the Department determined that the petitioners' allegation did not involve a ministerial error as defined by 19 CFR 351.224(f). Accordingly, we made no changes to our preliminary margin calculation.

On January 6, 2014, and January 8, 2014, respectively, the petitioners and SIW requested that the Department hold a hearing in this investigation. On March 12, 2014, both parties withdrew their hearing requests.

Between January 20, 2014, and February 7, 2014, the Department conducted sales and cost verifications of SIW, in accordance with section 782(i) of the Act.² On March 14, 2014, the Department requested that SIW submit revised U.S. and third-country sales listings to reflect certain verification findings. SIW submitted the revised sales listings on March 21, 2014.

² See the “Verification” section, below.

On March 20, 2014, and March 27, 2014, the petitioners and SIW submitted case and rebuttal briefs, respectively.

Period of Investigation

The period of investigation (POI) is April 1, 2012, through March 31, 2013.

Scope of the Investigation

The product covered by this investigation is high carbon steel wire; stress relieved or low relaxation; indented or otherwise deformed; meeting at a minimum the physical, mechanical, and chemical requirements of the American Society of Testing Materials (ASTM) A881/A881M specification; regardless of shape, size or alloy element levels; suitable for use as prestressed tendons in concrete railroad ties (PC tie wire). High carbon steel is defined as steel that contains 0.6 percent or more of carbon by weight.

PC tie wire is classified under the Harmonized Tariff Schedule of the United States (HTSUS) subheading 7217.10.8045, but may also be classified under subheadings 7217.10.7000, 7217.10.8025, 7217.10.8030, 7217.10.8090, 7217.10.9000, 7229.90.1000, 7229.90.5016, 7229.90.5031, 7229.90.5051, 7229.90.9000, and 7312.10.3012. Although the HTSUS subheadings are provided for convenience and customs purposes, the written description of the scope of the investigation is dispositive.

Analysis of Comments Received

All issues raised in the case and rebuttal briefs by parties in this investigation are addressed in the Issues and Decision Memorandum ³ which is hereby adopted by this notice. A list of the issues raised is attached to this notice as Appendix I. The Issues and Decision Memorandum is a public document and is on file electronically via Enforcement and Compliance's Antidumping and Countervailing Duty Centralized Electronic Service System (IA ACCESS). IA ACCESS is available to registered users at http://iaaccess.trade.gov and it is available to all parties in the Central Records Unit, room 7046 of the main Department of Commerce building. In addition, a complete version of the Issues and Decision Memorandum can be accessed directly at http://enforcement.trade.gov/frn/. The signed and electronic versions of the Issues and Decision Memorandum are identical in content.

³ Memorandum from Christian Marsh to Paul Piquado, “Issues and Decision Memorandum for the Antidumping Duty Investigation of Prestressed Concrete Steel Rail Tie Wire from Thailand” (April 28, 2014) (Issues and Decision Memorandum).

Changes Since the Preliminary Determination

Based on our analysis of the comments received and our findings at verification, we made certain changes to the margin calculations. For a discussion of these changes, see the “Margin Calculations” section of the Issues and Decision Memorandum.

Verification

As provided in section 782(i) of the Act, in January and February 2014, we verified the sales and cost information submitted by SIW for use in our final determination. We used standard verification procedures including an examination of relevant accounting and production records, and original source documents provided by SIW.⁴

⁴ See the memoranda entitled: “Verification of the Sales Responses of the Siam Industrial Wire Co., Ltd. and Tata Steel International (Americas) Inc. in the Antidumping Duty Investigation of Prestressed Concrete Steel Rail Tie Wire from Thailand,” dated March 5, 2014; and “Verification of the Cost Response of Siam Industrial Wire Co., Ltd. in the Antidumping Duty Investigation of Prestressed Concrete Steel Rail Tie Wires from Thailand,” dated March 6, 2014.

Final Determination Margins

The weighted-average dumping margin is as follows:

Exporter/manufacturer | Weighted- average dumping margin (percent)
The Siam Industrial Wire Co., Ltd | 0.00

Consistent with section 735(c)(1) of the Act, the Department has not determined an estimated all-others rate because it has not made an affirmative final determination of sales at less than fair value.

Disclosure

We will disclose the calculations performed within five days of the date of publication of this notice to parties in this proceeding in accordance with 19 CFR 351.224(b).

Suspension of Liquidation

Because the estimated weighted-average dumping margin for the examined company is de minimis, we are not directing U.S. Customs and Border Protection to suspend liquidation of entries of PC tie wire from Thailand.

ITC Notification

In accordance with section 735(d) of the Act, we notified the ITC of our final determination. As our final determination is negative, this proceeding is terminated.

Return or Destruction of Proprietary Information

This notice will serve as the only reminder to parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 735(d) and 777(i) of the Act.

Dated: April 28, 2014.
Paul Piquado,
Assistant Secretary for Enforcement and Compliance.

Appendix—Issues in Decision Memorandum

I. Summary

II. Background

III. Scope of Investigation

IV. Scope Comments

V. Margin Calculations

VI. Normal Value

VII. Discussion of Issues

1. Request to Apply Adverse Facts Available for the Final Determination

2. Particular Market Situation Allegation

3. SIW's Report Cost Allocation Methodology

4. General and Administrative (G&A) Expenses

5. Calculation of Credit Expenses for U.S. and South African Sales

6. Calculation of Indirect Selling Expenses for U.S. Sales

7. Use of Average-to-Average Pricing Comparisons

[FR Doc. 2014-10237 Filed 5-2-14; 8:45 am]

BILLING CODE 3510-DS-P